DEPARTMENT OF COMMERCE

National Oceanic and Atmospheric Administration

[I.D. 042202A]

Submission for OMB Review; Comment Request

SUPPLEMENTARY INFORMATION: The Department of Commerce has submitted to the Office of Management and Budget (OMB) for clearance the following proposal for collection of information under the provisions of the Paperwork Reduction Act (44 U.S.C. Chapter 35).

Agency: National Oceanic and Atmospheric Administration (NOAA).

Title: Highly Migratory Species Vessel Logbooks and Cost-Earnings Data Reports.

Form Number(s): NOAA Form 88-191.

OMB Approval Number:0648-0371.

Type of Request: Regular submission.

Burden Hours: 24,295.

Number of Respondents:5,290.

Average Hours Per Response:12 minutes per trip summary report; 2 minutes for a no-catch or no-fishing report; 30 minutes for a cost-earnings trip report; and 30 minutes for an annual expenditure report.

Needs and Uses: The National Marine Fisheries Service (NMFS) of NOAA seeks to reinstate Paperwork Reduction Act clearance of an existing logbook information collection and to make mandatory an existing voluntary collection of cost-earnings data from fishermen who possess permits to fish for highly migratory species. The cost-earnings form is an added portion of the existing trip summary form for vessel logbooks. This form has been simplified, and some cost information has been removed from the trip summary form to be placed on an annual expenditures form, in response to comments from fishermen. The information collected in logbooks and the cost-earnings form will help NMFS identify impacts of proposed regulatory measures on fishermen and the resource, consistent with applicable law such as the Magnuson-Stevens Fishery Conservation and Management Act and the Regulatory Flexibility Act.

Affected Public: Business or other for-profit organizations, individuals or households.

Frequency: Annually, by trip.

Respondent's Obligation: Mandatory.

OMB Desk Officer: David Rostker, (202) 395-3897.

Copies of the above information collection proposal can be obtained by calling or writing Madeleine Clayton, Departmental Paperwork Clearance Officer, (202) 482-3129, Department of Commerce, Room 6608, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: April 18, 2002.
Madeleine Clayton,
Departmental Paperwork Clearance Officer, Office of the Chief Information Officer.

[FR Doc. 02-10361 Filed 4-25-02; 8:45 am]

BILLING CODE 3510-22-S